DEPARTMENT OF LABOR

Employment and Training Administration

Notice of Availability of Funds and Funding Opportunity Announcement for Linking to Employment Activities Pre-Release Through Specialized American Job Centers (AJCS)—(“LEAP-2”)

AGENCY: Employment and Training Administration, Labor.

ACTION: Funding Opportunity Announcement (FOA).

Funding Opportunity Number: FOA-ETA-16-03

SUMMARY: The Employment and Training Administration (ETA), U.S. Department of Labor, announces the availability of $5,000,000 in grant funds for a second round of Linking to Employment Activities Pre-release through Specialized American Job Centers (AJCs), or “LEAP-2,” grants. ETA plans to award approximately 10 grants of up to $500,000 each to Local Workforce Development Boards. This grant program is designed to provide incarcerated individuals with workforce services prior to release and link them to a continuum of services offered through their community-based AJCs post-release. These grants are job-driven and build connections to local employers that will enable transitioning offenders to secure employment. The jail-based specialized AJCs will enable transitioning offenders to prepare for employment prior to release and continue with Individual Employment Plans (as described in Section IV of the FOA) in the community once released. The aim of these centers is to improve the workforce outcomes for transitioning offenders.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is February 26, 2016. Applications must be received no later than 4:00:00 p.m. Eastern Time.

FOR FURTHER INFORMATION CONTACT: Pia Miller, Grants Management Specialist, Office of Grants Management, at (202) 693-3153. Applicants should email all technical questions to miller.pia.m@dol.gov and reference the Funding Opportunity Number listed in this notice.

The Grant Officer for this FOA is Eric Luetkenhaus.

Signed January 14, 2016 in Washington, DC.
Eric D. Luetkenhaus,
Grant Officer/Division Chief, Employment and Training Administration.

[FR Doc. 2016-01146 Filed 1-20-16; 8:45 am]

BILLING CODE 4510-FN-P